DEPARTMENT OF AGRICULTURE

Foreign Agricultural Service

Notice of Public Meeting on U.S. Participation in the 17th Annual Meeting of the International Consultative Group on Food Irradiation

AGENCY: Foreign Agricultural Service, USDA.

ACTION: Notice of meeting.

SUMMARY: FAS is informing the public of a meeting to be held Friday, October 20, 2000, at the U.S. Department of Agriculture (USDA) in Washington, DC. The purpose of this meeting is to solicit public comment on U.S. participation in the 17th annual meeting of the International Consultative Group on Food Irradiation (ICGFI), November 1-3, 2000, in Geneva, Switzerland, including future activities (Plan of Work), U.S. level of contributions (funding), and ICGFI's role. It is also to seek public input in identifying any new issues of concern that should be considered.

Representatives from past delegations will also be present to apprise the public of the background of ICGFI, its mandate, past contributions and to respond to questions. ICGFI was established under the joint aegis of the Food and Agriculture Organization of the United Nations (FAO), the International Atomic Energy Agency (IAEA) and the World Health Organization (WHO).

The functions of ICGFI are:

1. To evaluate global developments in the field of food irradiation;

2. To provide a focal point of advice on the application of food irradiation to Member States and the three Organizations; and

3. To furnish information, as required, through the Organizations, to the Joint FAO/IAEA/WHO Expert Committee on the Wholesomeness of Irradiated Food and the Codex Alimentarius Commission.

DATES: The public meeting date is Friday, October 20, 2000, 9 a.m. to 11 a.m., Washington, DC in the back of the cafeteria, South Building. Written comments should be submitted by October 17, 2000. All visitors should enter at Wing 2 on the C Street side of the South Building.

FOR FURTHER INFORMATION CONTACT: Foreign Agricultural Service, International Trade Policy, Food Safety and Technical Services Division, Room 5545, South Building, 1400 Independence Avenue, SW., Washington, DC 20250; (202) 720-1301; or e-mail ofsts@fas.usda.gov.

SUPPLEMENTARY INFORMATION:

Topics To Be Discussed at the Public Meeting Include the Following:

Should the United States continue to support ICGFI financially?

Should United States government funding for ICGFI continue at the same level, increase, or decrease?

Should contributions continue to come only from the Government, or should industry contribute as well (or in place of the Government)?

Should the proposed “Programme of Work and Budget for 2001” be approved?

Programme of work | Estimated budget (US$)
1. International Trade
(a) Food Irradiation Process Control School (FIPCOS) for Food Inspectors | 25,000
(b) Workshop on Food Safety/Trade in Irradiated Food With the SU | 10,000
(c) Workshop on Certification of Food Irradiation Process in Latin America | 25,000
(d) Establishing an Irradiation Promotion Council E-Commerce to Facilitate Trade in Irradiated Food | 15,000
2. Codification
(a) Amendments to Codex General Standard for Irradiated Foods and Its Code of Practice (through the Codex Committee on Food Additives and Contaminants) | 5,000
(b) Amendment to the Labeling Provisions on Irradiated Foods (through the Codex Committee on Food Labelling) | 5,000
(c) Publication of Revised Code of Good Irradiation Practice | in-kind
3. Information Transfer
(a) Publication of Brochure on Application of “High-Dose Irradiation of Food” | in-kind
(b) ICGFI/IUFoST Symposium on Food Irradiation | 10,000
(c) Preparation of Education Materials on Food Irradiation | 5,000
(d) Publication of Brochure on “Irradiation Food Safety” | in-kind
4. Database
(a) Maintain database on list of clearance of irradiated food | no-cost
(b) Update current databases: national regulations, authorized food irradiation facilities, authorized packaging, materials, etc. | no-cost
5. Administration
(a) One professional staff (part-time) | 45,000
(b) One support staff (full time) | 60,000
(c) Travel | 10,000
(d) Miscellaneous (telephone, shipping, etc.) | 5,000
Total (cash) | 220,000

What is the appropriate role for industry and consumer groups?

Should industry participate as delegates?

Are there any other topics we think ICGFI should address?

Background Information on ICGFI

What Is ICGFI?

An independent body composed of government-designat experts on food irradiation.

How Was ICGFI Formed?

In 1982, the Directors General of FAO, IAEA and WHO invited Member States to consider forming a consultative group to focus in international co-operation in food irradiation. Upon receipt of a favorable response from 44 Member States, those present at a meeting in 1983 drafted a Declaration establishing the International Consultative Group on Food Irradiation (ICGFI). ICGFI, composed of experts or other participants designated by each government, was established in 1984 for an initial period of 5 years.

How Is ICGFI Organized?

FAO, IAEA and WHO, through the Joint FAO/IAEA Division of Nuclear Techniques in Food and Agriculture based at the IAEA, Vienna, serve as ICGFI's Secretariat.

What Are the Functions of ICGFI?

1. To evaluate global developments in the field of food irradiation;

2. To provide a focal point of advice on the application of food irradiation to Member States and the three Organizations; and

3. To furnish information, as required, through the Organizations, to the Joint FAO/IAEA/WHO Expert Committee on the Wholesomeness of Irradiated Food and the Codex Alimentarius Commission.

Who Determines the Priorities?

ICGFI funds and operates its own programs, focusing on developing policy guidelines related to the safety assurance of the process, legislation, public information, economic feasibility, food safety, and international trade.

How Does ICGFI Acquire Funding?

Member State governments pledge, or arrange for participants to pledge to make voluntary contributions in cash or in kind, for carrying out the activities of the Consultative Group. The Consultative Group may accept voluntary contributions in cash or in kind from Non-Member State governments and from organizations whose objectives are consistent with those of the Consultative Group.

What Are the Guidelines for Donations to ICGFI?

1. IAEA rules govern the acceptance of gifts of services, equipment, facilities and money.

2. Voluntary contributions may be offered to the Agency by: United Nations Member State governments, intergovernmental organizations and non-governmental sources.

3. Contributions may not exceed US $100,000 or its equivalent per year.

How Much Does the United States Contribute?

For the past 2 years, various Departments and Agencies have together contributed $20,000 to ICGFI each year.

How Frequently Does ICGFI Meet?

ICGFI convenes annual meetings to develop technical recommendations and to consider its program of work and budget. At the 10th Annual Meeting held at WHO Headquarters in Geneva from November 2-4, 1993, the group's experts recommended that the ICGFI mandate be extended for a further 5 years until May 1999.

How Much Longer Does ICGFI's Mandate Last?

Many of the activities set out for ICGFI in the original mandate have been accomplished. However, a Task Force identified six areas of activity in which further work is needed. In October 1998 at the 15th Annual Meeting, the mandate of the ICGFI was extended to another 3 years, i.e., May 1999 to May 2002. The ICGFI program will be co-ordinated by a Management Committee and will be refocused, putting emphasis on international trade, information exchange, high dose irrigation and seminars/training.

What Kind of Training is ICGF Involved With?

One example is the FAO/IAEA/WHO International Conference on Irradiation to Ensure the Safety and Quality of Food, in Antalya, Turkey, October 19-22, 1999. This Conference reviewed achievements on food irradiation during the 20th century and examine the rule of irradiation to ensure the safety and quality of food in trade. Irradiation is increasingly accepted and applied as a sanitary and phytosanitary treatment of food in trade. Currently, some 50 countries have approved one or more irradiated foods items or classes of food for consumption and over 30 countries are actually applying the technology in practice. The number of irradiation facilities available for treating food has increased in recent years with many more under construction or planned. Consumers are getting accurate information and are beginning to appreciate the benefit of irradiated food.

Another example is the Trade Opportunities for Irradiated Food in Hawaii; 22-24 May 2000 to inform representatives of the food industry and trade in Asia and the Pacific and the USA of the role of irradiation as a sanitary and phytosanitary treatment in order to expedite international trade in food and agricultural commodities.

Who Belongs to ICGFI?

The group is currently composed of the following 47 Member States, more than half of which are developing countries: Argentina, Australia, Bangladesh, Belgium, Brazil, Bulgaria, Canada, Chile, People's Republic of China, Costa Rica, Cote D'Ivoire, Croatia, Cuba, Czech Republic, Ecuador, Egypt, France, Germany, Ghana, Greece, Hungary, India, Indonesia, Iraq, Israel, Italy, Republic of Korea, Malaysia, Mexico, Morocco, Netherlands, New Zealand, Pakistan, Peru, Philippines, Poland, Portugal, South Africa, Syrian Arab Republic, Thailand, Tunisia, Turkey, Ukraine, United Kingdom, USA, Vietnam, and Yugoslavia.

Do Only Government Representatives Attend ICGFI Meetings?

Meetings are attended by designated experts from ICGFI member governments, and representatives of other interested governments, international organizations and non-governmental organizations are invited by ICGFI to attend as observers.

Where Is the Secretariat Located?

Food & Environmental Protection Section, Joint FAO/IAEA Division of Nuclear Techniques in Food and Agriculture, International Atomic Energy Agency, Wagramerstrasse 5, P.O. Box 100, A-1400 Vienna, Austria. Phone: (43-1) 2600 extension 21638 or 21639; Facsimile: (43-1) 26007; e-mail: Official.Mail@iaea.org

How Does ICGFI Communicate With All the Countries?

There is an ICGFI National Contact Point for each Member State.

What Are the Responsibilities of ICGFI Contact Points?

1. Distribution within the country of documents, working papers and other information material emanating from ICGFI or its Secretariat;

2. Co-ordinating the preparation for transmission to the Secretariat of technical comments/information requested;

3. Taking follow-up action on particular matters, in collaboration with the expert(s) attending the particular ICGFI meeting;

4. Providing information, as available, to the Secretariat on the status of food irradiation technology, its regulatory control and other related topics of interest to ICGFI; and

5. Ensuring that information made available by the ICGFI Secretariat is disseminated to the interested national entities/individuals.

Public Meeting

The public meeting will take place at the U.S. Department of Agriculture, 1400 Independence Ave., SW., Washington, DC, back of the cafeteria, South Building. To accommodate all public forum participants, we request that individuals planning to attend should so inform the Department in advance by contacting: Foreign Agricultural Service, International Trade Policy, Food Safety and Technical Services Division, Room 5545, South Building, 1400 Independence Avenue, SW., Washington, DC 20250; (202) 720-1301; or e-mail ofsts@fas.usda.gov. Please indicate the organization represented, if any, including the names and titles of individuals attending.

Written Comments

Those persons wishing to submit written comments should provide five (5) typed copies to Foreign Agricultural Service, International Trade Policy, Food Safety and Technical Services Division, Stop Code 1027, Room 5545, South Building, 1400 Independence Avenue, SW., Washington, DC 20250.

If the submission contains business confidential information, five copies of a non-confidential version must also be submitted. A justification as to why the information contained in the submission should be treated confidentially must be included in the submission. In addition, any submissions containing business confidential information must be clearly marked “Confidential” at the top and bottom of the cover page (or letter) and of each succeeding page of the submission. The version that does not contain confidential information should also be clearly marked, at the top and bottom of each page, “public version” or “nonconfidential.”

Written comments submitted in connection with this request, except for information deemed “business confidential” by FAS will be available for public inspection in the USDA Reading Room, Room 1141, USDA South Building, 1400 Independence Avenue, SW., Washington, DC. Normal Reading Room hours are from 8 a.m. to 4:30 p.m., Monday through Friday, except holidays. Please call (202) 690-2817 to assure that assistance will be available in the Reading Room.

Dated: October 2, 2000.
Timothy J. Galvin,
Administrator, Foreign Agricultural Service.

[FR Doc. 00-25726 Filed 10-5-00; 8:45 am]

BILLING CODE 3410-10-M